DEPARTMENT OF THE INTERIOR

Fish and Wildlife Service

Coastal Barrier Improvement Act of 1990; Amendments to the Coastal Barrier Resources System and Otherwise Protected Areas

AGENCY: Fish and Wildlife Service, Interior.

ACTION: Notice.

SUMMARY: We, the Fish and Wildlife Service, have replaced 7 maps relating to the Coastal Barrier Resources System in North Carolina with 14 maps, as directed by Congress. We are using this notice to inform the public about the distribution and availability of the revised maps.

DATES: The boundary revisions for these units became effective on November 29, 1999, in accordance with P.L. 97-348. The date listed on the official maps is October 18, 1999, as directed by Congress.

FOR FURTHER INFORMATION CONTACT: Dr. Benjamin N. Tuggle, Department of the Interior, U.S. Fish and Wildlife Service, Division of Habitat Conservation, (703) 358-2161.

SUPPLEMENTARY INFORMATION

Background

In 1982, Congress passed the Coastal Barrier Resources Act (P.L. 97-348) to restrict Federal spending that could foster development of undeveloped coastal barriers along the Atlantic and Gulf of Mexico coasts. In the Coastal Barrier Improvement Act of 1990 (P.L. 101-591), Congress amended the Act to broaden the definition of a coastal barrier, and approved a series of maps entitled “Coastal Barrier Resources System” dated October 24, 1990. These maps identify and depict those coastal barriers located on the coasts of the Atlantic Ocean, Gulf of Mexico, and the Great Lakes and in Puerto Rico and the Virgin Islands that are subject to the Federal funding limitations outlined in the Act. The 1990 Act also approved a related series of maps depicting otherwise protected areas (OPA) along the same coastlines. In full System units most forms of Federal subsidies are prohibited. In OPAs only Federal flood insurance is prohibited.

The Act also defines our responsibilities regarding the System and OPA maps. We have official custody of these maps and prepare and distribute copies of them. We published a notice of the filing, distribution, and availability of the maps dated October 24, 1990, in the Federal Register on June 6, 1991 (56 FR 26304-26312). We have announced all subsequent map revisions in the Federal Register.

Revisions to a System Unit and OPA in North Carolina

Section 1(a) of Public Law 106-16, enacted on November 29, 1999, requires us to replace 7 maps relating to the System with 14 new maps. These changes affect a Coastal Barrier Resources System Unit (designated as L03) and an OPA (designated as NC-03P) in Dare County, North Carolina. The changes to the Cape Hatteras NC-03P are designed to coincide with the boundary of the Cape Hatteras National Seashore. The changes to Hatteras Island Unit L03 are designed to meet the original intent of Congress.

How To Get Copies of the Maps

The Service has given copies of the revised System and OPA maps to the House of Representatives Committee on Resources and the Senate Committee on Environment and Public Works, and will be sending copies to the House of Representatives Committee on Banking and Financial Services and each appropriate Federal, State, and local agency having jurisdiction over the areas in which the modified units are located.

You can purchase copies of System and OPA maps from the U.S. Geological Survey, Earth Science Information Center, P.O. Box 25286, Denver, Colorado 80225. The cost is $4.00 per map, plus a $3.50 shipping and handling fee for the entire order. Maps can also be viewed at the following Fish and Wildlife Service offices:

Washington Office—all System and OPA maps.

U.S. Fish and Wildlife Service, Division of Habitat Conservation, 4401 N. Fairfax Drive, Room 400, Arlington, Virginia 22203, (703) 358-2201

Southeast Regional Office—all System and OPA maps for Alabama, Florida, Georgia, Louisiana, Mississippi, North Carolina, and South Carolina.

Region 4, U.S. Fish and Wildlife Service, 1875 Century Blvd., Atlanta, Georgia 30345, (404) 679-7125

Field Office—System and OPA maps for North Carolina.

Field Supervisor, U.S. Fish and Wildlife Service, Raleigh Field Office 551-F Pylon Drive, P.O. Box 33726, Raleigh, NC 27636-3726, (919) 856-4520

Dated: March 23, 2000.
Jamie Rappaport Clark,
Director, Fish and Wildlife Service.

[FR Doc. 00-8189 Filed 4-3-00; 8:45 am]

BILLING CODE 4310-55-P